DEPARTMENT OF COMMERCE

Foreign-Trade Zones Board

[S-137-2022]

Approval of Expansion of Subzone 61Z; Oldach Associates, LLC; Cataño, Puerto Rico

On August 8, 2022, the Executive Secretary of the Foreign-Trade Zones (FTZ) Board docketed an application submitted by the Department of Economic Development and Commerce, grantee of FTZ 61, requesting an expansion of Subzone 61Z subject to the existing activation limit of FTZ 61, on behalf of Oldach Associates, LLC, in Cataño, Puerto Rico.

The application was processed in accordance with the FTZ Act and Regulations, including notice in the Federal Register inviting public comment (87 FR 49580, August 11, 2022). The FTZ staff examiner reviewed the application and determined that it meets the criteria for approval.

Pursuant to the authority delegated to the FTZ Board Executive Secretary (15 CFR 400.36(f)), the application to expand Subzone 61Z was approved on September 26, 2022, subject to the FTZ Act and the Board's regulations, including section 400.13, and further subject to FTZ 61's 1,821.07-acre activation limit.

Dated: September 26, 2022.
Elizabeth Whiteman,
Acting Executive Secretary.

[FR Doc. 2022-21115 Filed 9-28-22; 8:45 am]

BILLING CODE 3510-DS-P